DEPARTMENT OF TRANSPORTATION

National Highway Traffic Safety Administration

Reports, Forms, and Recordkeeping Requirements; Agency Information Collection Activity Under OMB Review

AGENCY: National Highway Traffic Safety Administration (NHTSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on August 16, 2010 (75 FR 50034-50036).

DATES: Comments must be submitted on or before February 22, 2011.

ADDRESSES: Send comments, within 30 days, to the Office of Information and Regulatory Affairs, Office of Management and Budget, 725 17th Street, NW., Washington, DC 20503, Attention NHTSA Desk Officer.

FOR FURTHER INFORMATION CONTACT: Jessica Cicchino, PhD, Contracting Officer's Technical Representative, Office of Behavioral Safety Research (NTI-131), National Highway Traffic Safety Administration, 1200 New Jersey Ave, SE., W46-491, Washington, DC 20590. Dr. Cicchino's phone number is 202-366-2752 and her e-mail address is jessica.cicchino@dot.gov.

SUPPLEMENTARY INFORMATION: Title: The Effect of Entry-Level Motorcycle Rider Training on Motorcycle Crashes.

Type of Request: New information collection request.

Abstract: Motorcycle fatalities in the United States decreased in 2009 for the first time after steadily increasing for 11 years. However, even with this decline, the number of motorcycle fatalities in 2009 was nearly double that from a decade ago.

Motorcycle rider training is a part of most States' motorcycle safety programs, and funds are set aside under Section 2010 of SAFETEA-LU in part to help States increase their motorcycle training. A study conducted by Billheimer (1998) found that trained riders with less than 500 miles of riding experience had a lower crash rate than untrained riders during the 6 months after training. Other studies conducted on the effectiveness of motorcycle rider training in the United States, however, have not found an effect of motorcycle rider training on crashes. Thus, the extent to which motorcycle rider training reduces crash involvement is unclear.

The National Highway Traffic Safety Administration (NHTSA) plans on using information from surveys and archival records to examine the impact of entry-level motorcycle rider training on safe motorcycle riding, as one component of a larger research project evaluating the effectiveness of rider training. Participation by respondents will be voluntary. Surveys will be used to collect information from motorcycle riders on topics such as demographics, miles and years of riding experience, purpose of riding, training history, self-reported crash history, alcohol use prior to riding, use of helmets and other protective gear while riding, and other behaviors pertaining to safe riding. Survey data will be supplemented by archival data on riders' police-reported crashes, injuries, and motor vehicle citations. Data collected from motorcycle riders that have received entry-level rider training will be compared to data from untrained motorcycle riders.

Respondents will be asked to complete a survey three times during this study. The second survey will be completed 6 months after the first, and the third survey will be completed 18 months after the first. Surveys will be conducted electronically over the Internet when possible, with a pen-and-paper option available if preferred by the respondent.

Affected Public: NHTSA plans to recruit 1,250 motorcycle riders (625 trained and 625 untrained) for this study. Respondents will be novice motorcycle riders that have and have not completed an entry-level motorcycle rider training course. Participation will be solicited through motorcycle rider training courses, Departments of Motor Vehicles, motorcycle dealerships, motorcycle accessory shops, motorcycle trade shows, and at other locations where riders congregate. Trained and untrained riders will be matched on a number of characteristics, including demographics, riding experience, and self-reported safe and unsafe riding behaviors (such as speeding). To form matched pairs of 625 trained and 625 untrained riders, a total of up to 16,000 novice motorcycle riders will be screened (thus an additional 14,750 riders).

Estimated Total Burden: The total estimated burden is 1,541.5 hours. The burden for study participants is estimated to be 312.5 hours (1,250 respondents participating in 3 surveys, averaging 5 minutes each to complete), and the estimated burden for the additional riders that will be screened for the study is 1,229 hours (14,750 respondents participating in 1 screening survey, averaging 5 minutes to complete). The respondents would not incur any recordkeeping burden or recordkeeping cost from the information collection.

Comments are invited on the following:

(i) Whether the proposed collection of information is necessary for the proper performance of the functions of the agency, including whether the information will have practical utility;

(ii) The accuracy of the agency's estimate of the burden of the proposed information collection;

(iii) Ways to enhance the quality, utility, and clarity of the information to be collected; and

(iv) Ways to minimize the burden of the collection of information on respondents, including the use of automated collection techniques or other forms of information technology.

A comment to OMB is most effective if OMB receives it within 30 days of publication.

Authority: 44 U.S.C. 3506(c)(2)(A).

Jeff Michael,
Associate Administrator, Research and Program Development.

[FR Doc. 2011-1205 Filed 1-20-11; 8:45 am]

BILLING CODE 4910-59-P